DEPARTMENT OF LABOR

Employment and Training Administration

[TA-W-63,120]

Honeywell International, Inc., Honeywell Process Solutions Division, HPS Technology Subdivision, Phoenix, AZ; Notice of Termination of Investigation

In accordance with Section 221 of the Trade Act of 1974, as amended, an investigation was initiated on April 3, 2008 in response to a petition filed by a company official on behalf of workers of Honeywell International, Inc., Honeywell Process Solutions Division, HPS Technology Subdivision, Phoenix, Arizona.

The petitioning group of workers is covered by an active certification (TA-W-62,856) which expires on May 9, 2010. Consequently, further investigation in this case would serve no purpose, and the investigation has been terminated.

Signed in Washington, DC, this 13th day of May, 2008.
Richard Church,
Certifying Officer, Division of Trade Adjustment Assistance.

[FR Doc. E8-11374 Filed 5-21-08; 8:45 am]

BILLING CODE 4510-FN-P